ENVIRONMENTAL PROTECTION AGENCY

[EPA-HQ-OAR-2020-0629; FRL-12624-01-OMS]

Agency Information Collection Activities; Submission to the Office of Management and Budget for Review and Approval; Comment Request; NSPS for Primary and Secondary Emissions From Basic Oxygen Furnaces (Renewal)

AGENCY: Environmental Protection Agency (EPA).

ACTION: Notice.

SUMMARY: The Environmental Protection Agency (EPA) has submitted an information collection request (ICR), NSPS for Primary and Secondary Emissions from Basic Oxygen Furnaces (EPA ICR Number 1069.14, OMB Control Number 2060-0029) to the Office of Management and Budget (OMB) for review and approval in accordance with the Paperwork Reduction Act. This is a proposed extension of the ICR, which is currently approved through February 28, 2025. Public comments were previously requested via the Federal Register on May 18, 2023 during a 60-day comment period. This notice allows for an additional 30 days for public comments.

DATES: Comments may be submitted on or before March 31, 2025.

ADDRESSES: Submit your comments, referencing Docket ID Number EPA-HQ-OAR-2020-0629, to EPA online using www.regulations.gov (our preferred method), a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division, Office of Air Quality Planning and Standard, D243-05, Environmental Protection Agency, 1200 Pennsylvania Ave. NW, Washington, DC 20460; telephone number: (919) 541-0833; email address: ali.muntasir@epa.gov.

SUPPLEMENTARY INFORMATION: This is a proposed extension of the ICR, which is currently approved through February 28, 2025. An agency may not conduct or sponsor and a person is not required to respond to a collection of information unless it displays a currently valid OMB control number.

Public comments were previously requested via the Federal Register on May 18, 2023 during a 60-day comment period (88 FR 31748). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The New Source Performance Standards (NSPS) for Primary Emissions from Basic Oxygen Process Furnaces (subpart N) apply to each basic oxygen process furnace (BOPF) in an iron and steel plant that commenced construction, modification, or reconstruction after the date of proposal. An opacity limit was promulgated on April 13, 1978, as a supplement to the mass standard. On January 20, 1983, amendments to the Standards of Performance for Primary Emissions from Basic Oxygen Process Furnaces merged with Standards of Performance for Secondary Emissions from Basic Oxygen Process Steelmaking Facilities (subpart Na). Subpart Na is applicable to any topblown BOPF, and hot metal transfer station or skimming stations used with bottom-blown or top-blown BOPF's for which construction, reconstruction, or modification commenced after January 20, 1983. Subpart Na was promulgated on January 2, 1986. This information is being collected to assure compliance with 40 CFR part 60, subparts N and Na. In general, all NSPS standards require initial notifications, performance tests, and periodic reports by the owners/operators of the affected facilities. They are also required to maintain records of the occurrence and duration of any startup, shutdown, or malfunction in the operation of an affected facility or any period during which the monitoring system is inoperative. These notifications, reports, and records are essential in determining compliance, and are required of all affected facilities subject to NSPS.

Form numbers: None.

Respondents/affected entities: Iron and steel plants that utilize basic oxygen furnaces.

Respondent's obligation to respond: Mandatory (40 CFR part 60, subparts N and Na).

Estimated number of respondents: 2 (total).

Frequency of response: Initially and semiannually.

Total estimated burden: 628 hours (per year). Burden is defined at 5 CFR 1320.03(b).

Total estimated cost: $83,000 (per year), which includes $3,830 annualized capital or operation & maintenance costs.

Changes in the estimates: There is a decrease of 3,932 hours in the total estimated respondent burden compared with the ICR currently approved by OMB. This decrease is an adjustment due to a decrease in the number of sources. The previous ICR included sources that were constructed, reconstructed, or modified before the date of promulgation of Subpart N. These sources have been removed from the burden and cost calculations of this renewal. Additionally, the Capital/Startup and O&M costs have decreased due to the decrease in number of sources.

Courtney Kerwin,
Director, Information Engagement Division.

[FR Doc. 2025-03253 Filed 2-27-25; 8:45 am]

BILLING CODE 6560-50-P